DEPARTMENT OF LABOR

Employee Benefits Security Administration

Exemption Application No. L-11245; The North Texas Electrical Joint Apprenticeship and Training Trust Fund (the Plan)

AGENCY: Employee Benefits Security Administration, Department of Labor (the Department).

ACTION: Notice of proposed exemption.

On November 8, 2004, the Department published in the Federal Register (69 FR 64788) a notice of a proposed exemption (the Notice) which states that, [i]f the exemption is granted, the restrictions of section 406(a) of the Act shall not apply to the sale (the Sale(s)) of (1) a 1.112 acres of land (Parcel 1) to the North Texas Chapter, National Electrical Contractors Association, a party in interest to the Plan; and (2) 5.383 acres of land (Parcel 2) to Local Union #20, International Brotherhood of Electrical Workers, a party in interest to the Plan, conditioned upon the satisfaction of the following requirements:

(a) The Sales are one-time transactions for cash;

(b) The Plan does not pay any commissions, costs or other expenses in connection with the Sale of Parcel 1 and Parcel 2 (collectively the Parcels); and

(c) The Plan will receive an amount equal to the greater of: (i) $145,000 or the current fair market value of Parcel 1 as established by an independent, qualified, appraiser and updated at the time of the Sale; and (ii) $655,000; or the current fair market value of Parcel 2 as established by an independent, qualified, appraiser and updated at the time of the Sale; and

(d) The terms of the Sales will be no less favorable to the Plan than terms it would have received under similar circumstances in an arm's length negotiations with an unrelated party.

On page 64788 of the Notice, the operative language provides relief from the restrictions of section 406(a) of the Act. The Notice should have provided relief from the restrictions of sections 406(a), 406(b)(1) and 406(b)(2) of the Act. Accordingly, the Department hereby corrects the notice of proposed exemption as set forth below. The proposed exemption is amended to read:

If the exemption is granted, the restrictions of sections 406(a), 406(b)(1) and (2) of the Act shall not apply to the sale (the Sale(s)) of (1) a 1.112 acre of land (Parcel 1) to the North Texas Chapter, National Electrical Contractors Association (NECA), a party in interest to the Plan; and (2) 5.383 acres of land to Local Union #20, International Brotherhood of Electrical Workers (IBEW), a party in interest to the Plan.

FOR FURTHER INFORMATION CONTACT: Mr. Khalif Ford of the Department at (202) 693-8540. (This is not a toll-free number.)

Signed at Washington, DC, this 31st day of January, 2005.
Ivan L. Strasfeld,
Director of Exemption Determinations, Employee Benefits Security Administration, U.S. Department of Labor.

[FR Doc. 05-2076 Filed 2-2-05; 8:45 am]

BILLING CODE 4510-29-P